DEPARTMENT OF COMMERCE

National Oceanic and Atmospheric Administration

RIN 0648-XD408

Pacific Fishery Management Council; Public Meeting

AGENCY: National Marine Fisheries Service (NMFS), National Oceanic and Atmospheric Administration (NOAA), Commerce.

ACTION: Notice of a public meeting.

SUMMARY: The Pacific Fishery Management Council's (Pacific Council) ad hoc Lower Columbia River Natural Coho Workgroup (LRC Workgroup) will hold a public work session August 14, 2014 at the Pacific Council office in Portland, OR. The meeting is open to the public, but is not intended as a public hearing. Public comments will be taken at the discretion of the LRC Workgroup chair as time allows.

DATES: The work session will begin at 9 a.m. on Thursday, August 14, 2014 and will proceed until 5 p.m. or until business for the day is completed.

ADDRESSES: The work session will be held at the Pacific Council office, 7700 NE Ambassador Place, Suite 101, Portland, OR 97220-1384, telephone: (503) 820-2280 (voice) or (503) 820-2299 (fax). The Pacific Council may provide one-way streaming of the meeting audio and presentations to broaden the potential audience. If such arrangements are made, the details will be posted on the Pacific Council Web page in advance of the session.

FOR FURTHER INFORMATION CONTACT: Mr. Mike Burner, telephone: (503) 820-2414.

SUPPLEMENTARY INFORMATION: The primary purpose of the work session is to continue to develop reports and recommendations on the status of Lower Columbia River coho stocks, alternative harvest policies, and risk assessment. The LRC Workgroup reports and recommendations are scheduled to be presented to the Pacific Council at its September 2014 meeting in Spokane, WA.

Although non-emergency issues not contained in the LRC Workgroup meeting agendas may come before the LRC Workgroup for discussion, those issues may not be the subject of formal LRC Workgroup action during this meeting. LRC Workgroup action will be restricted to those issues specifically listed in this document and to any issues arising after publication of this document requiring emergency action under Section 305(c) of the Magnuson-Stevens Fishery Conservation and Management Act, provided the public has been notified of the LRC Workgroup's intent to take final action to address the emergency.

Special Accommodations

This public meeting is physically accessible to people with disabilities. Requests for sign language interpretation or other auxiliary aids should be directed to Mr. Kris Kleinschmidt at (503) 820-2425 (voice), or (503) 820-2299 (fax) at least 5 days prior to the meeting date.

Authority: 16 U.S.C. 1801 et seq.

Dated: July 22, 2014.
Tracey L. Thompson,
Acting Deputy Director, Office of Sustainable Fisheries, National Marine Fisheries Service.

[FR Doc. 2014-17558 Filed 7-24-14; 8:45 am]

BILLING CODE 3510-22-P